DEPARTMENT OF VETERANS AFFAIRS

VA National Academic Affiliations Council Notice of Meeting

The Department of Veterans Affairs (VA) gives notice under Federal Advisory Committee Act, 5 U.S.C. App. 2 that the VA National Academic Affiliations Council will meet via conference call on September 23, 2015, from 2 p.m. to 4 p.m. EST. The purpose of the Council is to advise the Secretary on matters affecting partnerships between VA and its academic affiliates. The Council will address the status of the implementation of the Veterans Access, Choice, and Accountability Act of 2014's Graduate Medical Education expansion plan, discuss issues related to VA contracting including the Veteran's Choice Program, and receive updates on VA training programs. Plans for the December Council meeting will be provided. The Council will receive public comments from 3:45 p.m. to 4 p.m. EST.

Interested persons may attend and/or present oral statements to the Council. The dial in number to attend the conference call is: 1-800-767-1750. At the prompt, enter access code 21382 then press #. Individuals seeking to present oral statements are invited to submit a 1-2 page summary of their comments at the time of the meeting for inclusion in the official meeting record. Oral presentations will be limited to five minutes or less, depending on the number of participants. Interested parties may also provide written comments for review by the Council prior to the meeting or at any time, via email to, Steve.Trynosky@va.gov, or by mail to Stephen K. Trynosky J.D., M.P.H., M.M.A.S., Designated Federal Officer, Office of Academic Affiliations (10A2D), 810 Vermont Avenue NW., Washington, DC 20420. Any member of the public wishing to attend or seeking additional information should contact Mr. Trynosky via email or by phone at (202) 461-6723.

Dated: June 23, 2015.
Jelessa M. Burney,
Federal Advisory Committee Management Officer.

[FR Doc. 2015-15785 Filed 6-26-15; 8:45 am]

BILLING CODE 8320-01-P